DEPARTMENT OF TRANSPORTATION

Federal Aviation Administration

14 CFR Part 39

[Docket No. FAA-2015-8135; Directorate Identifier 2015-NM-106-AD; Amendment 39-18636; AD 2016-18-06]

RIN 2120-AA64

Airworthiness Directives; The Boeing Company Airplanes

AGENCY: Federal Aviation Administration (FAA), DOT.

ACTION: Final rule.

SUMMARY: We are adopting a new airworthiness directive (AD) for certain The Boeing Company Model 767-200, -300, and -400ER series airplanes. This AD was prompted by multiple reports of uncommanded escape slide inflation. This AD requires modifying the escape slide regulator valves of the forward-entry door, forward-service door, aft-entry door, and aft-service door, and as applicable, modifying the escape slide regulator valves of the mid-entry door and mid-service door. We are issuing this AD to prevent out-of-tolerance trigger mechanism components (sector and sear) in the escape slide regulator valves, which can produce insufficient trigger engagement and reduced pull force values, possibly leading to uncommanded deployment of the slide during normal airplane maintenance or operation. This condition could result in injury to passengers and crew, damage to equipment, and the slide becoming unusable in an emergency evacuation.

DATES: This AD is effective October 13, 2016.

The Director of the Federal Register approved the incorporation by reference of a certain publication listed in this AD as of October 13, 2016.

ADDRESSES: For service information identified in this final rule, contact Boeing Commercial Airplanes, Attention: Data & Services Management, P.O. Box 3707, MC 2H-65, Seattle, WA 98124-2207; telephone: 206-544-5000, extension 1; fax: 206-766-5680; Internet https://www.myboeingfleet.com. You may view this referenced service information at the FAA, Transport Airplane Directorate, 1601 Lind Avenue SW., Renton, WA. For information on the availability of this material at the FAA, call 425-227-1221. It is also available on the Internet at http://www.regulations.gov by searching for and locating Docket No. FAA-2015-8135.

Examining the AD Docket

You may examine the AD docket on the Internet at http://www.regulations.gov by searching for and locating Docket No. FAA-2015-8135; or in person at the Docket Management Facility between 9 a.m. and 5 p.m., Monday through Friday, except Federal holidays. The AD docket contains this AD, the regulatory evaluation, any comments received, and other information. The address for the Docket Office (phone: 800-647-5527) is Docket Management Facility, U.S. Department of Transportation, Docket Operations, M-30, West Building Ground Floor, Room W12-140, 1200 New Jersey Avenue SE., Washington, DC 20590.

FOR FURTHER INFORMATION CONTACT: Caspar Wang, Aerospace Engineer, Cabin Safety and Environmental Systems Branch, ANM-150S, FAA, 1601 Lind Avenue SW., Renton, WA 98057-3356; phone: 425-917-6414; fax: 425-917-6590; email: Caspar.Wang@faa.gov.

SUPPLEMENTARY INFORMATION:

Discussion

We issued a notice of proposed rulemaking (NPRM) to amend 14 CFR part 39 by adding an AD that would apply to certain The Boeing Company Model 767-200, -300, and -400ER series airplanes. The NPRM published in the Federal Register on January 4, 2016 (81 FR 24) (“the NPRM”). The NPRM was prompted by multiple reports of uncommanded escape slide inflation. The NPRM proposed to require modifying the escape slide regulator valves of the forward-entry door, forward-service door, aft-entry door, and aft-service door, and as applicable, modifying the escape slide regulator valves of the mid-entry door and mid-service door. We are issuing this AD to prevent out-of-tolerance trigger mechanism components (sector and sear) in the escape slide regulator valves, which can produce insufficient trigger engagement and reduced pull force values, possibly leading to uncommanded deployment of the slide during normal airplane maintenance or operation. This condition could result in injury to passengers and crew, damage to equipment, and the slide becoming unusable in an emergency evacuation.

Comments

We gave the public the opportunity to participate in developing this AD. The following presents the comments received on the NPRM and the FAA's response to each comment. Air Astana, Air Line Pilots Association International (ALPA), and United Airlines supported the NPRM.

Request To Clarify Reference to the Escape Slide Regulator Valve

American Airlines (AAL) and Boeing requested that we clarify that the NPRM is applicable to the regulator valve associated with the escape slide assembly and not the slide door. The commenters pointed out that without clarification, the regulator valve could be misconstrued to be associated with the door system pressure cylinder assembly or the emergency power assist system (EPAS).

We agree to clarify the references to the escape slide regulator valve. We have revised the preamble in this final rule and paragraphs (e) and (g) of this AD to refer to the escape slide regulator valve.

Request To Revise Paragraph (g) of the Proposed AD

Air New Zealand (ANZ) requested that we revise paragraph (g) of the proposed AD or add an additional paragraph to clarify that operators are required only to modify escape slide regulator valves that have not been previously modified as specified in UTC Aerospace Systems Service Bulletin 130104-25-432 or 4A3939-25-434. ANZ stated that paragraph (g) of the proposed AD would require all escape slide regulator valves on affected airplanes to be removed and modified as specified in Boeing Special Attention Service Bulletin 767-25-0548, Revision 1, dated April 23, 2015. ANZ also pointed out that if before or during the accomplishment of the actions specified in Boeing Special Attention Service Bulletin 767-25-0548, Revision 1, dated April 23, 2015, a determination could be made (by reviewing records or checking the part markings on the girt bar) that some of the escape slide regulator valves are already modified, as specified in UTC Aerospace Systems Service Bulletin 130104-25-432; or Service Bulletin 4A3939-25-434, then no additional work should be required on the modified escape slide regulator valves.

We agree that escape slide regulator valves that have already been modified do not need to be removed and modified again. Boeing Service Bulletin 767-25-0548, dated November 5, 2014, included in paragraph (h) of this AD, references UTC Aerospace Systems Service Bulletin 130104-25-432; and Service Bulletin 4A3939-25-434 for the modification. As allowed by the phrase, “unless already done,” in paragraph (f) of this AD, if the requirements of this AD have already been accomplished, this AD does not require that those actions be repeated. Therefore, paragraph (g) this AD has not been changed in this regard.

Request To Reduce the Proposed Compliance Time

ALPA indicated its full support for the intent of the NPRM, but requested that we reduce the proposed 42-month compliance time for the modification of the escape slide regulator valves. ALPA pointed out that the risk of an uncommanded deployment is high and believes that the compliance time should be reduced in the interest of safety. ALPA provided no specific new compliance time.

We disagree with the request to reduce the 42-month compliance time. In developing an appropriate compliance time, we considered the safety implications, parts availability, and normal maintenance schedules for timely accomplishment of modification of the escape slide regulator valves. Further, we arrived at the proposed compliance time with operator and manufacturer concurrence. Additionally, ALPA did not provide any additional data to support a shorter compliance time. In consideration of all of these factors, we determined that the compliance time, as proposed, represents an appropriate interval in which the escape slide regulator valves can be modified in a timely manner within the fleet, while still maintaining an adequate level of safety. Most ADs, including this one, permit operators to accomplish the requirements of an AD at a time earlier than the specified compliance time; therefore, an operator may choose to modify the escape slide regulator valves before the 42-month compliance time. If additional data are presented that would justify a shorter compliance time, we may consider further rulemaking on this issue. We have not changed this AD in this regard.

Request To Revise References in Certain Service Information

AAL requested that we revise references included in UTC Aerospace Systems Service Bulletin 130104-25-432, dated August 11, 2014. AAL stated that UTC Aerospace Systems Service Bulletin 130104-25-432, dated August 11, 2014, contains internal references to the UTC Aerospace Systems Component Maintenance Manual (CMM) that are incorrect and reference an old revision of the UTC Aerospace Systems CMM with different paragraph references.

We agree that the references included in UTC Aerospace Systems Service Bulletin 130104-25-432, dated August 11, 2014, are incorrect. Since the specific references included in UTC Aerospace Systems Service Bulletin 130104-25-432, dated August 11, 2014, are not required for compliance with this AD, we have not changed the AD in this regard; however, we have identified this discrepancy to Boeing and UTC Aerospace Systems.

Effect of Winglets on Accomplishment of the Proposed Actions

Aviation Partners Boeing stated that the installation of winglets per STC ST01920SE does not affect the accomplishment of the manufacturer's service instructions.

We agree with the commenter that STC ST01920SE does not affect the accomplishment of the manufacturer's service instructions. Therefore, the installation of STC ST01920SE does not affect the ability to accomplish the actions required by this AD. We have not changed this AD in this regard.

Conclusion

We reviewed the relevant data, considered the comments received, and determined that air safety and the public interest require adopting this AD with the changes described previously and minor editorial changes. We have determined that these minor changes:

• Are consistent with the intent that was proposed in the NPRM for correcting the unsafe condition; and

• Do not add any additional burden upon the public than was already proposed in the NPRM.

We also determined that these changes will not increase the economic burden on any operator or increase the scope of this AD.

Related Service Information Under 1 CFR Part 51

We reviewed Boeing Special Attention Service Bulletin 767-25-0548, Revision 1, dated April 23, 2015. The service information describes procedures for modifying the escape slide regulator valves of the forward-entry door, forward-service door, aft-entry door, aft-service door, mid-entry door, and mid-service door. The modification includes replacing the existing trigger mechanism sector and sear of the escape slide regulator valve with new trigger mechanism sector and sear. This service information is reasonably available because the interested parties have access to it through their normal course of business or by the means identified in the ADDRESSES section.

Costs of Compliance

We estimate that this AD affects 302 airplanes of U.S. registry.

We estimate the following costs to comply with this AD:

Estimated Costs
Action | Labor cost | Parts cost | Cost per product | Cost on U.S. operators
Replacement of trigger mechanism components—forward and aft-entry/service doors | 15 work-hours × $85 per hour = $1,275 | $2,236 | $3,511 | $1,060,322
Replacement of trigger mechanism components—mid-entry/mid-service doors | 8 work-hours × $85 per hour = $680 | 1,118 | 1,798 | 542,996

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2016-18-06 The Boeing Company: Amendment 39-18636; Docket No. FAA-2015-8135; Directorate Identifier 2015-NM-106-AD.

(a) Effective Date

This AD is effective October 13, 2016.

(b) Affected ADs

None.

(c) Applicability

This AD applies to The Boeing Company Model 767-200, -300, and -400ER series airplanes, certificated in any category, as identified in Boeing Special Attention Service Bulletin 767-25-0548, Revision 1, dated April 23, 2015.

(d) Subject

Air Transport Association (ATA) of America Code 25, Equipment/furnishings.

(e) Unsafe Condition

This AD was prompted by multiple reports of uncommanded escape slide inflation. We are issuing this AD to prevent out-of-tolerance trigger mechanism components (sector and sear) in the escape slide regulator valves, which can produce insufficient trigger engagement and reduced pull force values, possibly leading to uncommanded deployment of the slide during normal airplane maintenance or operation. This condition could result in injury to passengers and crew, damage to equipment, and the slide becoming unusable in an emergency evacuation.

(f) Compliance

Comply with this AD within the compliance times specified, unless already done.

(g) Replacement of the Trigger Mechanism Sector and Sear

Within 42 months after the effective date of this AD, modify the escape slide regulator valves of the forward-entry door, forward-service door, aft-entry door, and aft-service door, and as applicable, modify the escape slide regulator valves of the mid-entry door and mid-service door, in accordance with the Accomplishment Instructions of Boeing Special Attention Service Bulletin 767-25-0548, Revision 1, dated April 23, 2015.

(h) Credit for Previous Actions

This paragraph provides credit for the modification required by paragraph (g) of this AD, if the modification was performed before the effective date of this AD using Boeing Special Attention Service Bulletin 767-25-0548, dated November 5, 2014.

(i) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (j)(1) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Seattle ACO, to make those findings. For a repair method to be approved, the repair must meet the certification basis of the airplane, and the approval must specifically refer to this AD.

(4) For service information that contains steps that are labeled as Required for Compliance (RC), the provisions of paragraphs (i)(4)(i) and (i)(4)(ii) apply.

(i) The steps labeled as RC, including substeps under an RC step and any figures identified in an RC step, must be done to comply with the AD. An AMOC is required for any deviations to RC steps, including substeps and identified figures.

(ii) Steps not labeled as RC may be deviated from using accepted methods in accordance with the operator's maintenance or inspection program without obtaining approval of an AMOC, provided the RC steps, including substeps and identified figures, can still be done as specified, and the airplane can be put back in an airworthy condition.

(j) Related Information

(1) For more information about this AD, contact Caspar Wang, Aerospace Engineer, Cabin Safety and Environmental Systems Branch, ANM-150S, FAA, 1601 Lind Avenue SW., Renton, WA 98057-3356; phone: 425-917-6414; fax: 425-917-6590; email: Caspar.Wang@faa.gov.

(2) Service information identified in this AD that is not incorporated by reference is available at the addresses specified in paragraphs (k)(3) and (k)(4) of this AD.

(k) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing Special Attention Service Bulletin 767-25-0548, Revision 1, dated April 23, 2015.

(ii) Reserved.

(3) For Boeing service information identified in this AD, contact Boeing Commercial Airplanes, Attention: Data & Services Management, P.O. Box 3707, MC 2H-65, Seattle, WA 98124-2207; telephone: 206-544-5000, extension 1; fax: 206-766-5680; Internet https://www.myboeingfleet.com.

(4) You may view this service information at the FAA, Transport Airplane Directorate, 1601 Lind Avenue SW., Renton, WA 98057-3356. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on August 24, 2016.
John P. Piccola, Jr.,
Acting Manager, Transport Airplane Directorate, Aircraft Certification Service.

[FR Doc. 2016-21152 Filed 9-7-16; 8:45 am]

BILLING CODE 4910-13-P